DEPARTMENT OF TRANSPORTATION

Federal Aviation Administration

Agency Information Collection Activity Under OMB Review, Request for Comments; Renewal of an Approved Information Collection Activity, Part 93, Subpart U—Special Flight Rules in the Vicinity of Grand Canyon National Park

AGENCY: Federal Aviation Administration (FAA), DOT.

ACTION: Notice and request for comments.

SUMMARY: The National Parks Overflights Act mandates that the recommendations provide for “substantial restoration of the natural quiet and experience of the park and protection of public health and safety from adverse effects associated with aircraft overflight.” The FAA will use the information to monitor compliance with the regulations. These respondents are Grand Canyon National Park (GCNP) air tour operators. A notice for public comment was published in the Federal Register on 9/6/2005, vol. 70, #171, pages 53039-53040.

DATES: Please submit comments by February 17, 2006.

FOR FURTHER INFORMATION CONTACT: Judy Street on (202) 267-9895.

SUPPLEMENTARY INFORMATION:

Federal Aviation Administration (FAA)

Title: Part 93, Subpart U—Special Flight Rules in the Vicinity of Grand Canyon National Park.

Type of Request: Renewal of an approved collection.

OMB Control Number: 2120-0653.

Forms(s): None.

Affected Public: A total of 15 air tour operators.

Frequency: Conducted on an as-needed basis.

Estimated Average Burden Per Response: Approximately 1 hour.

Estimated Annual Burden Hours: An estimated 94 hours annually.

Abstract: The National Parks Overflights Act mandates that the recommendations provide for “substantial restoration of the natural quiet and experience of the park and protection of public health and safety from adverse effects associated with aircraft overflight.” The FAA will use the information to monitor compliance with the regulations. These respondents are GCNP air tour operators.

ADDRESSES: Send comments to the Office of Information and Regulatory Affairs, Office of Management and Budget, 725 17th Street, NW., Washington, DC 20503, Attention FAA Desk Officer.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on January 10, 2006.
Judith D. Street,
FAA Information Collection Clearance Officer, Information Systems and Technology Services Staff, ABA-20.

[FR Doc. 06-411 Filed 1-17-06; 8:45 am]

BILLING CODE 4910-13-M